DEPARTMENT OF ENERGY

Federal Energy Regulatory Commission

Combined Notice of Filings #1

March 19, 2009.

Take notice that the Commission received the following electric rate filings:

Docket Numbers: ER07-1137-002.

Applicants: Lockhart Power Company.

Description: Supplement to Updated Market Power Analysis for Market-Based Authority of Lockhart Power Company.

Filed Date: 03/18/2009.

Accession Number: 20090318-5073.

Comment Date: 5 p.m. Eastern Time on Wednesday, April 8, 2009.

Docket Numbers: ER08-844-002.

Applicants: Entergy Services, Inc.

Description: Entergy Mississippi, Inc. Submits an Amended Interconnection and Operating Agreement with TPS McAdams, LLC.

Filed Date: 03/17/2009.

Accession Number: 20090318-0139.

Comment Date: 5 p.m. Eastern Time on Tuesday, April 7, 2009.

Docket Numbers: ER08-1332-000; ER06-169-000; ER08-1330-000; ER98-3774-000.

Applicants: Choctaw Gas Generation, LLC; SUEZ Energy Marketing NA, Inc.; Hot Spring Power Company, LLC; Choctaw Generation LP.

Description: Amendment to Updated Market Power Analysis of Choctaw Gas Generation, LLC.

Filed Date: 03/18/2009.

Accession Number: 20090318-5117.

Comment Date: 5 p.m. Eastern Time on Wednesday, April 8, 2009.

Docket Numbers: ER09-552-002.

Applicants: Goldfinch Capital Management, LP.

Description: Goldfinch Capital Management, LP Submits Petition for Acceptance of Initial Tariff and Waivers and Request Acceptance of FERC Electric Tariff, Original Volume 1 etc.

Filed Date: 03/17/2009.

Accession Number: 20090318-0140.

Comment Date: 5 p.m. Eastern Time on Tuesday, April 7, 2009.

Docket Numbers: ER09-582-001.

Applicants: American Electric Power Service Corporation.

Description: American Electric Power Service Corp. on behalf of AEP Operating Companies Submits an Amendment to the Eleventh Revised Repair and Maintenance Agreement under ER09-582.

Filed Date: 03/18/2009.

Accession Number: 20090319-0201.

Comment Date: 5 p.m. Eastern Time on Wednesday, April 8, 2009.

Docket Numbers: ER09-683-001.

Applicants: Alex Energy, LLC.

Description: Alex Energy, LLC Submits its Application for a Finding of Category 1 Seller States with Respect to the Southeast Region Filed on 2/11/09 and Submits a Revised Market-Based Rate Tariff.

Filed Date: 03/17/2009.

Accession Number: 20090318-0141.

Comment Date: 5 p.m. Eastern Time on Tuesday, April 7, 2009.

Docket Numbers: ER09-836-001.

Applicants: New York Independent System Operator, Inc.

Description: New York Independent System Operator, Inc. Submits Sixth Revised Sheet 486 which Superseding Fifth Revised Sheet 486 to FERC Electric Tariff, Original Volume 2 Attachment J under ER09-836.

Filed Date: 03/18/2009.

Accession Number: 20090319-0203.

Comment Date: 5 p.m. Eastern Time on Wednesday, April 8, 2009.

Docket Numbers: ER09-857-000.

Applicants: Nevada Power Company.

Description: NV Energy, Inc. Submits Notice of Cancellation of Nevada Power Company Electric Rate Schedule No 24.

Filed Date: 03/17/2009.

Accession Number: 20090318-0135.

Comment Date: 5 p.m. Eastern Time on Tuesday, April 7, 2009.

Docket Numbers: ER09-858-000.

Applicants: Cheyenne Light Fuel & Power Company.

Description: Cheyenne Light, Fuel and Power Company submits Original Sheet 1 et al. to FERC Electric Tariff, Original Volume 1, Open Access Transmission Tariff, Effective 3/18/09.

Filed Date: 03/17/2009.

Accession Number: 20090318-0144.

Comment Date: 5 p.m. Eastern Time on Tuesday, April 7, 2009.

Docket Numbers: ER09-860-000.

Applicants: Southern California Edison Company.

Description: Southern California Edison Company Submits a Letter Agreement with City of Victorville.

Filed Date: 03/18/2009.

Accession Number: 20090319-0205.

Comment Date: 5 p.m. Eastern Time on Wednesday, April 8, 2009.

Docket Numbers: ER09-861-000.

Applicants: Midwest Independent Transmission System Operator, Inc.

Description: Midwest Independent Transmission System Operator, Inc. Submits First Revised Sheet 3706, Supersedes Original Sheet 3706 to FERC Electric Tariff, Fourth Revised Volume 1.

Filed Date: 03/18/2009.

Accession Number: 20090319-0206.

Comment Date: 5 p.m. Eastern Time on Wednesday, April 8, 2009.

Docket Numbers: ER09-862-000.

Applicants: Midwest Independent Transmission System Operator, Inc.

Description: Midwest Independent Transmission System Operator, Inc. Submits First Revised Sheet 3730, Supersedes Original Sheet 3730 to FERC Electric Tariff, Fourth Revised Volume 1.

Filed Date: 03/18/2009.

Accession Number: 20090319-0204.

Comment Date: 5 p.m. Eastern Time on Wednesday, April 8, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E9-6707 Filed 3-25-09; 8:45 am]

BILLING CODE 6717-01-P